DEPARTMENT OF HEALTH AND HUMAN SERVICES

Centers for Disease Control and Prevention

[60Day-05-05CG]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Morbidity Monitoring Project (MMP)—New—National Center for HIV, STD and TB Prevention (NCHSTP), Centers for Disease Control and Prevention (CDC).

Background and Brief Description: This proposed data collection supplements the HIV/AIDS surveillance programs in 26 selected state and local health departments, which collect information on persons diagnosed with, living with, and dying from HIV infection and AIDS and will incorporate data elements from two data collections: Supplement to HIV/AIDS Surveillance (SHAS) project (0920-0262) and the Adult/Adolescent Spectrum of HIV Disease (ASD). Both projects stopped data collection in 2004.

Although CDC receives surveillance data from all U.S. states, these supplemental surveillance data are needed to make estimates of key indicators, such as quality of HIV-related ambulatory care and the severity of need for HIV-related care and services. A large number of cities and states are heavily impacted by the HIV/AIDS epidemic, resulting in the need for population-based national estimates of HIV-related behaviors, clinical outcomes, and quality of HIV care.

This project will collect data on behaviors and clinical outcomes from a probability sample of HIV-infected adults receiving care in the U.S. Collection of data from interviews with HIV-infected patients will provide information on patient demographics, and the current levels of behaviors that may facilitate HIV transmission: sexual and drug use behaviors; patients' access to, use of and barriers to HIV-related secondary prevention services; utilization of HIV-related medical services; and adherence to drug regimens. Collection of data from patient medical records will provide information on: demographics and insurance status; the prevalence and incidence of AIDS-defining opportunistic illnesses and co-morbidities related to HIV disease; the receipt of prophylactic and antiretroviral medications; and whether patients are receiving screening and treatment according to Public Health Service guidelines. No other Federal agency collects national population-based behavioral and clinical information from HIV-infected adults in care. The data will have significant implications for policy, program development, and resource allocation at the state/local and national levels.

CDC is requesting approval for a 3-year clearance for data collection. Data will be collected by 26 Reporting Areas (19 states, Puerto Rico and 6 separately funded cities). CDC estimates an average of 400 respondents per site, resulting in 10,400 respondents for the interview portion. There will be 2 medical record abstractors per site, resulting in 52 respondents for the medical record abstraction. Participation of respondents is voluntary and there is no cost to the respondents other than their time.

Estimate of Annualized Burden Table
Type of data collection | Number of sites | Average number of respondents/site | Number of respondents | Number of responses per respondent | Average burden per response (in hours) | Total burden (in hours)
Persons interviewed | 26 | 400 | 10,400 | 1 | 45/60 | 7,800
Medical record abstractors | 26 | 2 | 52 | 200 | 1 | 10,400
Total |  |  |  |  |  | 18,200

Dated: June 21, 2005.
Joan F. Karr,
Acting Reports Clearance Officer, Centers for Disease Control and Prevention.

[FR Doc. 05-13244 Filed 7-5-05; 8:45 am]

BILLING CODE 4163-18-Ps